DEPARTMENT OF THE INTERIOR

Bureau of Land Management

[AK-040-1430-ER; A-059905]

Supplementary Rule With Criminal Penalties

AGENCY: Anchorage Field Office, Bureau of Land Management, DOI.

ACTION: Supplementary Rule for Restriction of Certain Activities on Public Lands Managed by the Anchorage Field Office, Bureau of Land Management, Alaska.

SUMMARY: This Supplementary Rule is necessary for the management of actions, activities, and use on public lands which may have, or are having, adverse impacts on persons using public lands, on property, and on resources located on public lands. The subject lands are utilized for a public boat launch, lawful hunting, and air boating and are adjacent to the heavily traveled Glenn Highway. This Supplemental Rule will be in effect from September 1, 2002, until such lands are conveyed to the State of Alaska.

While hunters, air boaters and other recreationists can schedule their use around published hunting seasons for safety reasons, they are not able to avoid random target shooting. Motorists on the Glenn Highway are not able to schedule their use of the highway. Local conditions such as heavy brush can reduce visibility and increase the hazard to other recreationists and motorists from target shooters. Recent incidents involving random target shooting are an endangerment to other users of this area and to motorists on the adjacent Glenn Highway. The discharge of fireworks increases the risk of wildfires. In addition, resource damage is occurring from the accumulation of debris and lead contamination. To reduce the incidence of future conflicts and enhance public safety, this area of public land known as the Knik River Access or Gravel Pit Lake, located north of Anchorage, Alaska is being closed to the discharge of fireworks and discharge of firearms. This area will remain open to lawful hunting by licensed hunters during seasons administered by the Alaska Department of Fish and Game. Shotgun use will be limited to ammunition containing steel or non-lead shot.

This Supplemental Rule does not apply to other lands, specifically State or Federal lands including State lands in the Palmer Hay Flats State Wildlife Refuge.

The affected lands are public lands administered by the Bureau Land Management, Anchorage Field Office, and are described as follows:

T. 16 N., R. 1 E., Seward Meridian, Alaska

Sec. 10: Lot 6, West of the Alaska Railroad

Sec. 15: Lot 6

SUPPLEMENTARY INFORMATION:

Supplementary Rule

(1.0) Closure of public lands to discharge of fireworks and to the discharge of firearms except by licensed hunters during seasons administered by the Alaska Department of Fish and Game.

The following are prohibited:

(a). The discharge of fireworks.

(b). The discharge of firearms except by licensed hunters during seasons administered by the Alaska Department of Fish and Game.

(c). The use of ammunition containing lead shot.

(2.0) Exception:

(a). This regulation does not apply to the lawful hunting of game by licensed hunters during seasons administered by the Alaska Department of Fish and Game.

Penalties: Violations of this regulation are punishable by a fine in accordance with the Sentencing Reform Act of 1984 (18 USC 3551 et seq.), and/or imprisonment not to exceed 12 months for each offense. The authority for this closure is 43 CFR 8364.1.

FOR FURTHER INFORMATION CONTACT: Peter J. Ditton, Anchorage Field Manager, BLM, Anchorage Field Office, 6881 Abbott Loop Road, Anchorage, Alaska 99507-2599 or call 907-267-1246.

Dated: April 29, 2002.
June Bailey,
Anchorage Associate Field Manager.

[FR Doc. 02-12330 Filed 5-16-02; 8:45 am]

BILLING CODE 4310-JA-P